DEPARTMENT OF DEFENSE

Office of the Secretary

[Docket ID DOD-2008-OS-0157]

Privacy Act of 1974; System of Records

AGENCY: Defense Finance and Accounting Service, DoD.

ACTION: Notice to amend a system of records.

SUMMARY: The Defense Finance and Accounting Service proposes to amend a system of records notice in its inventory of record systems subject to the Privacy Act of 1974 (5 U.S.C. 552a), as amended.

DATES: The amendments will be effective on January 14, 2009, unless comments are received that would result in a contrary determination.

ADDRESSES: Send comments to Ms. Linda Krabbenhoft, Freedom of Information Act/Privacy Act Program Manager, Defense Finance and Accounting Service, Corporate Communications and Legislative Liaison, 8899 E. 56th Street, Indianapolis, IN 46249-0150.

FOR FURTHER INFORMATION CONTACT: Ms. Linda Krabbenhoft at (303) 589-3510.

SUPPLEMENTARY INFORMATION: The Defense Finance and Accounting Service's record system notices for records systems subject to the Privacy Act of 1974 (5 U.S.C. 552a), as amended, have been published in the Federal Register and are available from the Freedom of Information/Privacy Act Program Manager listed above.

The specific changes to the record system being amended are set forth below followed by the notice, as amended, published in its entirety. The proposed amendments are not within the purview of subsection (r) of the Privacy Act of 1974 (5 U.S.C. 552a), as amended, which requires the submission of a new or altered system report.

Dated: December 9, 2008.
Morgan E. Frazier,
Alternate OSD Federal Register Liaison Officer, Department of Defense.

T5015c

System name:

Freedom of Information Act Requests (April 12, 1999, 64 FR 17634).

Changes:

* * * * *

System Locations:

Delete entry and replace with “Defense Finance and Accounting Service, Corporate Communications and Legislative Liaison, 8899 E. 56th Street, Indianapolis, IN 46249-0150.

Defense Finance and Accounting Service—Cleveland Center, 1240 East Ninth Street, Cleveland, OH 44199-2055.

Defense Finance and Accounting Service—Columbus Center, 4280 East 5th Avenue, Columbus, OH 43219-1879.”

* * * * *

Authority for maintenance of the system:

Delete entry and replace with “5 U.S.C. 552, the Freedom of Information Act, as amended, as implemented by DFAS Regulation 5400.7-R; DoD 5400.7-R, DoD Freedom of Information Act Program, and E.O. 9397 (SSN)”

* * * * *

Routine uses of records maintained in the system, including categories of users and the purpose of such uses:

In second paragraph add “DoD” before “Blanket Routine Uses.”

* * * * *

Storage:

Delete entry and replace with “Paper records in file folders and electronic storage media.”

* * * * *

Safeguards:

Delete entry and replace with “Records are stored in an office building protected by guards, controlled screening, use of visitor registers, electronic access and/or locks. Access to records is limited to individuals who are properly screened and cleared on a need-to-know basis in the performance of their duties. Passwords are used to control access to the system data, and procedures are in place to detect and deter browsing and unauthorized access.”

* * * * *

Retention and disposal:

Delete entry and replace with “Records are retained for a minimum of 2 years; replies to requests for nonexistent records, to requesters who provide inadequate descriptions, and to those who fail to pay agency fees (request not appealed), 2 years; requests appealed, 6 years after final determination by agency; control logs, 6 years, report files, 2 years; administrative files, 2 years. Records are destroyed by shredding, pulping, burning or degaussing.”

* * * * *

System manager(s) and address:

Delete entry and replace with “Defense Finance and Accounting Service, Corporate Communications and Legislative Liaison, Freedom of Information Act/Privacy Act Program Manager, 8899 E. 56th Street, Indianapolis, IN 46249-0150.”

Notification procedure:

Delete entry and replace with “Individuals seeking to determine whether information about themselves is contained in this system of records should address written inquiries to the Defense Finance and Accounting Service, Corporate Communications and Legislative Liaison, 8899 E. 56th Street, Indianapolis, IN 46249-1050.

Individuals should provide full name, current address, telephone number, and other information verifiable for the record itself.”

Record access procedures:

Delete entry and replace with “Individuals seeking to access records about themselves in this system of records should address written inquiries to the Defense Finance and Accounting Service, Corporate Communications and Legislative Liaison, 8899 E. 56th Street, Indianapolis, IN 46249-1050.

Individuals should provide full name, current address, telephone number, and other information verifiable for the record itself.”

Contesting record procedures:

Delete entry and replace with “The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.”

* * * * *

T5015c

System name:

Freedom of Information Act Requests.

System Location:

Defense Finance and Accounting Service, Corporate Communications and Legislative Liaison, 8899 E. 56th Street, Indianapolis, IN 46249-0150.

Defense Finance and Accounting Service—Cleveland Center, 1240 East Ninth Street, Cleveland, OH 44199-2055.

Defense Finance and Accounting Service—Columbus Center, 4280 East 5th Avenue, Columbus, OH 43219-1879.

Categories of individuals covered by the system:

All individuals who have requested documents under the provisions of the Freedom of Information Act (FOIA) (5 U.S.C. 552).

Categories of records in the system:

Correspondence from the public requesting information under the Freedom of Information Act and the reply, which may include copies of the released record(s), denials, and appeals. Correspondence pertaining to the requests, the information released or withheld, summaries, logs of actions taken, and correspondence from and to other DoD and Federal agencies regarding specific requests of mutual interest.

Authority for maintenance of the system:

5 U.S.C. 552, the Freedom of Information Act, as amended, as implemented by DFAS Regulation 5400.7-R; DoD 5400.7-R, DoD Freedom of Information Act Program, and E.O. 9397 (SSN).

Purpose(s):

To control administrative processing of requests for information made under the provisions of the Freedom of Information Act (FOIA), and to record statistics for the annual FOIA report.

Routine uses of records maintained in the system, including categories of users and the purpose of such uses:

In addition to those disclosures generally permitted under 5 U.S.C. 552a(b) of the Privacy Act, these records or information contained therein may specifically be disclosed outside the DoD as a routine use pursuant to 5 U.S.C. 552a(b)(3) as follows.

The DoD `Blanket Routine Uses' published at the beginning of the DFAS compilation of systems of records notices also apply to this system.

Policies and practices for storing, retrieving, accessing, retaining, and disposition of records in the system:

Storage:

Paper records in file folders and electronic storage media.

Retrievability:

Retrieved by individual's name or by control number assigned to the individual case file.

Safeguards:

Records are stored in an office building protected by guards, controlled screening, use of visitor registers, electronic access and/or locks. Access to records is limited to individuals who are properly screened and cleared on a need-to-know basis in the performance of their duties. Passwords are used to control access to the system data, and procedures are in place to detect and deter browsing and unauthorized access.

Retention and disposal:

Records are retained for a minimum of 2 years; replies to requests for nonexistent records, to requesters who provide inadequate descriptions, and to those who fail to pay agency fees (request not appealed), 2 years; requests appealed, 6 years after final determination by agency; control logs, 6 years, report files, 2 years; administrative files, 2 years. Records are destroyed by shredding, pulping, burning or degaussing.

System manager(s) and address:

Defense Finance and Accounting Service, Corporate Communications and Legislative Liaison, Freedom of Information Act/Privacy Act Program Manager, 8899 E. 56th Street, Indianapolis, IN 46249-0150.

Notification procedure:

Individuals seeking to determine whether information about themselves is contained in this system of records should address written inquiries to the Defense Finance and Accounting Service, Corporate Communications and Legislative Liaison, 8899 E. 56th Street, Indianapolis, IN 46249-1050.

Individuals should provide full name, current address, telephone number, and other information verifiable for the record itself.

Record access procedures:

Individuals seeking to access records about themselves in this system of records should address written inquiries to the Defense Finance and Accounting Service, Corporate Communications and Legislative Liaison, 8899 E. 56th Street, Indianapolis, IN 46249-1050.

Individuals should provide full name, current address, telephone number, and other information verifiable for the record itself.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Record source categories:

Information in this system is obtained from requesters, from other federal agencies with collateral interest in a request, and from records which were the subject of requests.

Exemptions claimed for the system:

None.

[FR Doc. E8-29510 Filed 12-12-08; 8:45 am]

BILLING CODE 5001-06-P